DEPARTMENT OF DEFENSE

Office of the Secretary

Defense Science Board

AGENCY: Department of Defense.

ACTION: Notice of advisory committee meetings.

SUMMARY: The Joint Defense Science Board/Air Force Scientific Advisory Board Task Force on the Acquisition of National Security Space Programs will meet in closed session on August 28-29, 2002 at SAIC, Chantilly, VA; and September 18-19, 2002, in Los Angeles, CA. This Task Force will review the acquisition of National Security Space Programs and make recommendations to improve the acquisition of space programs from their initiation to deployment.

The mission of the Defense Science Board is to advise the Secretary of Defense and the Under Secretary of Defense for Acquisition, Technology & Logistics on scientific and technical matters as they affect the perceived needs of the Department of Defense. At these meetings, the Task Force will focus on what matters to providing national security advantage to the United States and look at the problem in as holistic a fashion as possible, considering the entire space acquisition process, including industry suppliers as well as government acquirers. The assessment will consider what is happening in the four interconnected sectors of the space business—commercial, civil, intelligence and military. Personnel issues, including numbers, skills, experience and demographics of space professionals (including CAAS and FFRDC personnel) as well as effects of corporate mergers in all these areas may be included. The assessment will also consider all aspects of the government's role in managing and funding space system acquisition—SPO, PEO, Science and Technology, Major Command, Service Headquarters, OSD, NRO, NASA and Congress—to derive insights.

In accordance with Section 10(d) of the Federal Advisory Committee Act, Pub. L. No. 92-463, as amended (5 U.S.C. App. II), it has been determined that these Task Force meetings concern matters listed in 5 U.S.C. § 552b(c)(1) and that, accordingly, these meetings will be closed to the public.

Due to critical mission requirements and the short timeframe to accomplish this review (an interim report is due in September), there was insufficient time to provide timely notice required by Section 10(a)(2) of the Federal Advisory Committee Act and Subsection 101-6.105(b) of the GSA Final Rule on Federal Advisory Committee Management, 41 CFR Part 101-6, which further requires publication at least 15 calendar days prior to the first meeting of the Task Force on the Acquisition of National Security Space Programs.

Dated: August 26, 2002.
Patricia L. Toppings,
Alternate OSD Federal Register Liaison Officer, Department of Defense.

[FR Doc. 02-22141 Filed 8-29-02; 8:45 am]

BILLING CODE 5001-08-M